DEPARTMENT OF HEALTH AND HUMAN SERVICES

Centers for Disease Control and Prevention

Notice of Award of a Single Source Cooperative Agreement To Fund University of Oslo (UiO).

AGENCY: Centers for Disease Control and Prevention (CDC), Department of Health and Human Services (HHS).

ACTION: Notice.

SUMMARY: The Centers for Disease Control and Prevention (CDC), located within the Department of Health and Human Services (HHS), announces the award of approximately $1,500,000, with an expected total funding of approximately $7,500,000 over a 5-year period, to the University of Oslo (UiO). This award will protect Americans and people worldwide from public health threats by building capacity within their respective countries to strengthen public health preparedness; early pathogen detection to mitigate the impact of global disease outbreaks and public health; and bolstering rapid response to global health emergencies.

DATES: The period for this award will be September 30, 2025 through September 29, 2030.

FOR FURTHER INFORMATION CONTACT: Broderick Yoerg, Division of Global Health Protection, Global Health Center, Centers for Disease Control and Prevention, 1600 Clifton Rd., Atlanta, GA 30329, Telephone: (404) 234-0666, Email: DGHPNOFOs@cdc.gov.

SUPPLEMENTARY INFORMATION: The single source award will enhance public health surveillance, outbreak detection and response for disease that pose global health security risks by delivering high-quality, effective, and timely informatics solutions to strengthen data and health information systems. This award will strengthen the core District Health Information System 2 (DHIS2) software, improve interoperability with laboratory information systems, and enhance electronic Integrated Disease Surveillance and Response's functionality in support Integrated Disease Surveillance and Response, National Disease Surveillance, and other types of public health surveillance systems.

University of Oslo is in a unique position to conduct this work, as it is the only organization that can modify and share the core DHIS2 software therefore, CDC can only work with them to provide enhancements that are then available to all countries, globally.

Summary of the Award

Recipient: University of Oslo.

Purpose of the Award: The purpose of this award is to support and further scale the DHIS2, an open-source software platform developed and maintained by UiO. The global strategy seeks to leverage the Health Information Systems Program (HISP) partnership network to collect, validate, analyze, visualize, and implement public health data, while building local capacity to strengthen health information systems in countries worldwide. This effort is expected to significantly strengthen global health surveillance systems, contribute to improved public health outcomes and respond more effectively to global health threats.

Amount of Award: $1,500,000 in Federal Fiscal Year (FFY) 2025 funds, with a total estimated $7,500,000 for the 5-year period of performance, subject to availability of funds.

Authority: This program is authorized under Section 307 of the Public Health Service Act [42 U.S.C. 242l] and Section 301(a) [42 U.S.C. 241l(a) of the Public Health Service Act.

Period of Performance: September 30, 2025 through September 29, 2030.

Dated: December 17, 2024.
Terrance Perry,
Acting Director, Office of Grants Services, Centers for Disease Control and Prevention.

[FR Doc. 2024-31201 Filed 12-27-24; 8:45 am]

BILLING CODE 4163-18-P